DEPARTMENT OF ENERGY

Federal Energy Regulatory Commission

[Project No. 6443-003]

Algonquin Power Company; Abenaki Timber Corporation; Notice of Transfer of Exemption

1. Pursuant to section 4.106 of the Commission's regulations,¹ Rebecca McCauley, exemptee for the Little Mac Power Project No. 6443, originally issued November 30, 1982,² has been transferred to Robert and Kathi Meyers. The project is located on Cedar Draw Creek in Twin Falls County, Idaho. The transfer of an exemption does not require Commission approval.

¹ 18 CFR 4.106(i)(2011).

² 21 FERC ¶ 62,346, Order Granting Exemption From Licensing of a Small Hydroelectric Project of 5 Megawatts or Less and Denying Competing Application for Preliminary Permit.

2. Robert and Kathi Meyers, located at 3291 N 3300 E, Twin Falls, Idaho 83301 are now the exemptees of the Little Mac Power Project No. 6443.

Dated: May 9, 2012.
Kimberly D. Bose,
Secretary.

[FR Doc. 2012-11741 Filed 5-15-12; 8:45 am]

BILLING CODE 6717-01-P